DEPARTMENT OF COMMERCE

International Trade Administration

[A-570-930]

Antidumping Duty Order: Circular Welded Austenitic Stainless Pressure Pipe from the People's Republic of China

AGENCY: Import Administration, International Trade Administration, Department of Commerce.

EFFECTIVE DATE: March 17, 2009.

SUMMARY: Based on affirmative final determinations by the Department of Commerce (the “Department”) and the International Trade Commission (“ITC”), the Department is issuing an antidumping duty order on circular welded austenitic stainless pressure pipe from the People's Republic of China (“PRC”).

FOR FURTHER INFORMATION CONTACT: Melissa Blackledge or Howard Smith, AD/CVD Operations, Office 4, Import Administration, International Trade Administration, U.S. Department of Commerce, 14th Street and Constitution Avenue, NW, Washington, DC, 20230; telephone: (202) 482-3518 and 482-5193, respectively.

SUPPLEMENTARY INFORMATION:

Background

In accordance with sections 735(d) and 777(i)(1) of the Tariff Act of 1930, as amended (the “Act”), on January 28, 2009, the Department published its final determination in the antidumping duty investigation of circular welded austenitic stainless pressure pipe from the PRC. See Circular Welded Austenitic Stainless Pressure Pipe from the People's Republic of China: Final Determination of Sales at Less Than Fair Value, 74 FR 4913 (January 28, 2009). On March 12, 2009, the ITC notified the Department of its affirmative final determination of material injury to a U.S. industry. See Welded Stainless Steel Pressure Pipe from China, Investigation Nos. 701-TA-454 and 731-TA-1144 (Final), USITC Publication, 4064 (March 2009).

Scope of the Order

The merchandise covered by this order is circular welded austenitic stainless pressure pipe not greater than 14 inches in outside diameter. This merchandise includes, but is not limited to, the American Society for Testing and Materials (“ASTM”) A-312 or ASTM A-778 specifications, or comparable domestic or foreign specifications. ASTM A-358 products are only included when they are produced to meet ASTM A-312 or ASTM A-778 specifications, or comparable domestic or foreign specifications. Excluded from the scope are: (1) welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040, 7306.40.5062, 7306.40.5064, and 7306.40.5085 of the Harmonized Tariff Schedule of the United States (“HTSUS”). They may also enter under HTSUS subheadings 7306.40.1010; 7306.40.1015; 7306.40.5042, 7306.40.5044, 7306.40.5080, and 7306.40.5090. The HTSUS subheadings are provided for convenience and customs purposes only, the written description of the scope of this order is dispositive.

Provisional Measures

Section 733(d) of the Act states that suspension of liquidation instructions issued pursuant to an affirmative preliminary determination may not remain in effect for more than four months except where exporters representing a significant proportion of exports of the subject merchandise request the Department to extend that four-month period to no more than six months. At the request of an exporter that accounted for a significant proportion of exports of circular welded austenitic stainless pressure pipe, we extended the four-month period to no more than six months. See Circular Welded Austenitic Stainless Pressure Pipe from the People's Republic of China: Preliminary Determination of Sales at Less Than Fair Value and Postponement of Final Determination, 73 FR 51788 (September 5, 2008) (“Preliminary Determination”).

In this investigation, the six-month period beginning on the date of the publication of the Preliminary Determination (i.e., September 5, 2008) ended on March 3, 2009. Furthermore, section 737 of the Act states that definitive duties are to begin on the date of publication of the ITC's final injury determination. Therefore, in accordance with section 733(d) of the Act, we have instructed U.S. Customs and Border Protection (“CBP”) to terminate suspension of liquidation and to liquidate without regard to antidumping duties (i.e., release all bonds and refund all cash deposits), unliquidated entries of circular welded austenitic stainless pressure pipe from the PRC entered, or withdrawn from warehouse, for consumption after March 3, 2009, and before the date of publication of the ITC's final injury determination in the Federal Register. Suspension of liquidation will continue on or after the date of publication of the ITC's final injury determination in the Federal Register.

Antidumping Duty Order

On March 12, 2009, in accordance with section 735(d) of the Act , the ITC notified the Department of its final determination, pursuant to section 735(b)(1)(A)(i) of the Act, that an industry in the United States is materially injured by reason of less-than-fair-value imports of subject merchandise from the PRC. Therefore, in accordance with section 736(a)(1) of the Act, the Department will direct CBP to assess, upon further instruction by the Department, antidumping duties equal to the amount by which the normal value of the merchandise exceeds the export price of the merchandise for all relevant entries of circular welded austenitic stainless pressure pipe from the PRC. Except for the entries noted above,¹ these antidumping duties will be assessed on all unliquidated entries of circular welded austenitic stainless pressure pipe from the PRC entered, or withdrawn from the warehouse, for consumption on or after September 5, 2008, the date on which the Department published its preliminary determination. See Preliminary Determination.

¹ Namely, entries of circular welded austenitic stainless pressure pipe from the PRC entered, or withdrawn from warehouse, for consumption after March 3, 2009, and before the date of publication of the ITC's final injury determination in the Federal Register.

Effective on the date of publication of the ITC's final affirmative injury determination, CBP will require, at the same time as importers would normally deposit estimated duties on this merchandise, a cash deposit equal to the estimated weighted-average antidumping duty margins listed below. See section 735(c)(1) of the Act. The “PRC-wide” rate applies to all exporters of subject merchandise not specifically listed. The weighted-average dumping margins are as follows:

Exporter & Producer | Weighted-Average Margin
Zhejiang Jiuli Hi-Tech Metals Co., Ltd. Produced by: Zhejiang Jiuli Hi-Tech Metals Co., Ltd. | 10.53%%
PRC-Wide Entity | 55.21%%

This notice constitutes the antidumping duty order with respect to circular welded austenitic stainless pressure pipe from the PRC pursuant to section 736(a) of the Act. Interested parties may contact the Department's Central Records Unit, Room 1117 of the main Commerce building, for copies of an updated list of antidumping duty orders currently in effect.

This order is published in accordance with section 736(a) of the Act and 19 CFR 351.211.

Dated: March 12, 2009.
Ronald K. Lorentzen,
Acting Assistant Secretary for Import Administration.

[FR Doc. E9-5730 Filed 3-16-09; 8:45 am]

BILLING CODE 3510-DS-S